DEPARTMENT OF THE INTERIOR

Bureau of Land Management

Notice of Intent To Prepare an Environmental Impact Statement (EIS) and Initiate the Public Scoping Process

AGENCY: Bureau of Land Management, Interior.

SUMMARY: Pursuant to Section 102(2)(c) of the National Environmental Policy Act of 1969 and the Federal Land Policy and Management Act of 1976, notice is hereby given that the Bureau of Land Management (BLM), Challis Field Office, will be directing the preparation of an Environmental Impact Statement (EIS) that will analyze the mining impacts resulting from L&W Stone's Amended Plan of Operations in Custer County, Idaho.

DATES: The scoping comment period will commence with the publication of this notice and will end 45 days after publication of this notice. Two public meetings will be held during the scoping comment period. Comments on the scope of the EIS, including concerns, issues, or proposed alternatives that should be considered in the EIS should be submitted in writing to the address below. The dates of public meetings to be held in Challis and Boise, Idaho will be announced through the local media, newsletters, and BLM's National Environmental Policy Act (NEPA) mailing list. The draft EIS is expected to be available for public review and comment in June 2006 and the final EIS is expected to be available in August 2007.

ADDRESSES: Written comments should be sent to Chuck Horsburgh, Project Leader, Idaho Falls District Office, 1405 Hollipark Drive, Idaho Falls, Idaho 83401. Faxes should be sent to 208-524-7505. Comments received on this proposal, including names and addresses, will be considered part of the public record and will be available for public inspection during regular office hours, Monday-Friday, 8-4:30 p.m. Individual respondents may request confidentiality. If you wish to withhold your name and street address from public review or from disclosure under the Freedom of Information Act, you must state this prominently at the beginning of your written comment. Such requests will be honored to the extent allowed by law. All submissions from organizations and businesses, and from individuals identifying themselves as representatives or officials for organizations or businesses, will be available for public inspection in their entirety.

FOR FURTHER INFORMATION CONTACT: Chuck Horsburgh, Project Leader, Idaho Falls District Office, 1405 Hollipark Drive, Idaho Falls, Idaho 83401; or phone at (208) 524-7530.

SUPPLEMENTARY INFORMATION: L&W Stone Corporation mines locatable flagstone on public lands administered by the BLM's Challis Field Office in Custer County, Idaho. L&W Stone submitted an Amended Plan of Operations for their quarry under the 43 CFR 3809 Regulations in December 2002. The BLM completed an Environmental Assessment (EA) regarding the Amended Plan of Operations, signed a Finding of No Significant Impact (FONSI), and approved the project. As a result of a lawsuit that was filed objecting to that approval, the BLM was ordered by a Federal District Court judge to prepare an EIS for the Amended Plan of Operations. The Amended Plan of Operations will serve as the basis for the EIS project description. The BLM will analyze a range of alternatives in the EIS. As proposed in the Amended Plan of Operations, the quarry would operate for up to 40 years. The main product that is mined is large-diameter sheets of rock called flagstone which is used in both indoor and outdoor decorative construction.

Dated: August 30, 2005.
David Rosenkrance,
Challis Field Manager, BLM.

[FR Doc. 05-21042 Filed 10-20-05; 8:45 am]

BILLING CODE 4310-GG-P